DEPARTMENT OF ENERGY

Proposed Agency Information Collection

AGENCY: Bonneville Power Administration, U.S. Department of Energy.

ACTION: Notice and request for OMB review and comment.

SUMMARY: Bonneville Power Administration (BPA) has submitted to the Office of Management and Budget (OMB) for clearance, a proposal for collection of information under the provisions of the Paperwork Reduction Act of 1995. The proposed collection will allow BPA to exercise management and oversight over the personal security of the public and physical security of its facilities. Incidents of property damage and loss are also reported and managed using these collections.

DATES: Comments regarding this collection must be received on or before March 22, 2019. If you anticipate that you will be submitting comments, but find it difficult to do so within the period of time allowed by this notice, please advise the DOE Desk Officer at OMB of your intention to make a submission as soon as possible. The Desk Officer may be telephoned at (202) 395-4718.

ADDRESSES: Written comments should be sent to the DOE Desk Officer, Office of Information and Regulatory Affairs, Office of Management and Budget, New Executive Office Building, Room 10102, 735 17th Street NW, Washington, DC 20503.

And to: Written comments may be submitted by mail to Laura McCarthy, CGI-7, Bonneville Power Administration, 905 NE 11th Avenue, Portland, Oregon 97232, or by email at ljmccarthy@bpa.gov.

FOR FURTHER INFORMATION CONTACT: Additional information may be requested from Laura McCarthy at the mailing address above or by email at ljmccarthy@bpa.gov or via telephone at (503) 230-3223.

SUPPLEMENTARY INFORMATION: This information collection request contains: (1) OMB No.: New; (2) Information Collection Request Title: Security; (3) Type of Request: New Collection; (4) Purpose: This Information Collection allows BPA to exercise management and oversight over the personal security of the public and physical security of its facilities; incidents of property damage and loss are also reported and managed using these collections; (5) Annual Estimated Number of Respondents: 9,642; (6) Annual Estimated Number of Total Responses: 9,642; (7) Annual Estimated Number of Burden Hours: 1,749; (8) Annual Estimated Reporting and Recordkeeping Cost Burden: $0.

Statutory Authority: The Bonneville Project Act, codified at 16 U.S.C. 832; and the following additional authorities:

BPA F 5632.01, Security Incident Report: FERC Order No. 706, sec. 343, pg. 98.

BPA F 5632.08, Unclassified Visits and Assignments—Foreign Nationals Registration (Short Form): E.O. 12333 (December 4, 1981); E.O. 13284 (January 23, 2003); E.O. 13470, (July 30, 2008); FERC Order No. 706 sec. 343, pg. 98.

BPA F 5632.09, Personal Identity Verification (PIV) Request: Information Sheet for Sponsorship of DOE Security Badge or LSSO: E.O. 13467 (April 27, 1953). E.O. 13488 (January 16, 2009); E.O. 13764, (January 17, 2017); Federal Information Processing Standard Publication 201-2 (FIPS 201-2), and Homeland Security Presidential Directive 12 (HSPD 12).

BPA F 5632.11, BPA Visitor(s) Access Request: 42 U.S.C. 2165; FERC Order No. 706 sec. 343, pg. 98.

BPA F 5632.12, Evidence/Property Custody Document: 42 U.S.C. 2165; FERC Order No. 706 sec. 343, pg. 98.

BPA F 5632.18 Crime Witness Telephone Report: FERC Order No. 706, sec. 343, pg. 98.

BPA F 5632.27, Badge Replacement Form: Federal Information Processing Standard Publication 201-2 (FIPS 201-2) and Homeland Security Presidential Directive 12 (HSPD 12).

BPA F 5632.30, Pin Code Request: Federal Information Processing Standard Publication 201-2 (FIPS 201-2) and Homeland Security Presidential Directive 12 (HSPD 12).

BPA F 5632.32, Card Key Access Request: 42 U.S.C. 2165; FERC Order No. 706 sec. 343, pg. 98.

Signed on January 30, 2019.
Candice D. Palen,
Acting Manager, Information Governance.

[FR Doc. 2019-02802 Filed 2-19-19; 8:45 am]

BILLING CODE 6450-01-P